DEPARTMENT OF AGRICULTURE

Submission for OMB Review; Comment Request

July 11, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Risk Management

Title: Organic Price Project.

OMB Control Number: 0563-NEW.

Summary of Collection: This collection is in support of a partnership agreement between the Risk Management Agency and the Rodale Institute, as authorized under section 522(d) of the Federal Crop Insurance Act. The agreement with the Rodale Institute will address the development and implementation of a price reporting system for producers of selected organic commodities. Since early 2003, the Rodale Institute has posted prices for around 40 organic products in a file called the “Organic Price Index”.

Need and Use of the Information: The price information will be collected weekly by e-mail, telephone, fax, and from Web sites in whatever form is customarily used by the distributor to post prices. The prices are collected from wholesale distributors, sales agencies, and cooperatives that specialize in the marketing of organic products. This information will be disseminated and posted on an existing Web site maintained by the Rodale Institute to assist organic producers and allied interests in price discovery. Fruit and vegetable prices have been collected from organic wholesalers operating in the vicinity of the Seattle and Boston wholesale produce markets. Prices of identical conventional products reported by Agricultural Marketing Service in these markets are also posted for comparison. As part of this project, prices will be collected for a wider array of organic products and in 13 additional market areas.

Description of Respondents: Business or other for-profit; farms; individuals or households.

Number of Respondents: 60.

Frequency of Responses: Reporting: Weekly.

Total Burden Hours: 53.

Charlene Parker,
Departmental Information Clearance Officer.

[FR Doc. E6-11202 Filed 7-14-06; 8:45 am]

BILLING CODE 3410-08-P